DEPARTMENT OF ENERGY

Federal Energy Regulatory Commission

[Project No. 6634-003]

Shasta Meadows, Inc.; Notice of Availability of Environmental Assessment

In accordance with the National Environmental Policy Act of 1969 and the Federal Energy Regulatory Commission's (Commission or FERC) regulations, 18 CFR part 380, Commission staff reviewed Shasta Meadow, Inc.'s application for surrender of exemption for the Prather Creek Hydroelectric Project No. 6634 and have prepared an Environmental Assessment (EA) for the proposed surrender.¹ The exemptee proposes to leave all project works secured in place including the powerhouse and generator. The project is non-operational and no water flows through the penstock. No ground disturbing activities are proposed with surrender of the project exemption. The project is located on private land on Prather Creek in Siskiyou County, California.

¹ In accordance with the Council on Environmental Quality's regulations, the unique identification number for documents relating to this environmental review is EAXX-019-20-000-1726749309. 40 CFR 1501.5(c)(4) (2024).

The EA contains Commission staff's analysis of the potential environmental effects of surrendering the exemption and concludes that the proposed surrender, would not constitute a major federal action that would significantly affect the quality of the human environment.

The EA may be viewed on the Commission's website at https://www.ferc.gov using the “eLibrary” link. Enter the docket number (P-6634) in the docket number field to access the document. For assistance, contact FERC Online Support at FERCOnlineSupport@ferc.gov or toll-free at 1-866-208-3676, or for TTY, (202) 502-8659.

You may also register online at https://www.ferc.gov/docs-filing/esubscription.asp to be notified via email of new filings and issuances related to this or other pending projects. For assistance, contact FERC Online Support.

All comments must be filed by December 13, 2024.

The Commission strongly encourages electronic filing. Please file comments using the Commission's eFiling system at https://www.ferc.gov/docs-filing/efiling.asp. Commenters can submit brief comments up to 6,000 characters, without prior registration, using the eComment system at https://www.ferc.gov/docs-filing/ecomment.asp. For assistance, please contact FERC Online Support. In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-6634-003.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

For further information, contact Rebecca Martin at 202-502-6012 or Rebecca.Martin@ferc.gov.

Dated: November 14, 2024.
Carlos D. Clay,
Acting Deputy Secretary.

[FR Doc. 2024-27159 Filed 11-20-24; 8:45 am]

BILLING CODE 6717-01-P